ENVIRONMENTAL PROTECTION AGENCY

[ER-FRL-6649-4]

Environmental Impact Statements; Notice of Availability

Responsible Agency: Office of Federal Activities, General Information (202) 564-7167 or http://www.epa.gov/compliance/nepa/.

Weekly receipt of Environmental Impact Statements

Filed March 8, 2004 Through March 12, 2004

Pursuant to 40 CFR 1506.9.

EIS No. 040109, Draft EIS, FHW, NE, MO, US-159 Missouri River Crossing Project, Rehabilitate or Replace the Missouri River Bridge at Rulo, Funding and U.S. Army COE Section 404 Permit, Richardson County, NE and Holt County, MO, Comment Period Ends: May 3, 2004, Contact: Ed Kosola (402) 437-5973.

EIS No. 040110, Final EIS, AFS, UT, North Rich Cattle Allotment, Proposes to Authorize Grazing, Implementation, Logan District, Wasatch-Cache National Forest, Cache and Rich Counties, UT, Wait Period Ends: April 19, 2004, Contact: Evelyn Sibbernsen (435) 755-3620. This document is available on the Internet at: http://www.fs.fed.us/r4/wcnf/projects/proposed/index.shtm1

EIS No. 040111, Final EIS, AFS, WY, Lost Cabin Mine Project, Improvement of Historic Mining Road (Way 4170H) to Allow Motorized Access to the Lost Mine for Mineral Exploration, Plan-of-Operations, Medicine-Bow Routt National Forests and Thunder Basin National Grassland, Carbon County, WY, Wait Period Ends: April 19, 2004, Contact: Terry Delay (307) 326-2518. This document is available on the Internet at: http://www.r7.fws.gov/planning

EIS No. 040112, Draft EIS, FHW, IN, US-231 Highway Project, Improvements from I-64 and Extends to State Road 56 in Haysville, Funding, NPDES Permit and U.S. Army COE Section 10 and 404 Permits, Dubois County, IN, Comment Period Ends: May 3, 2004, Contact: Anthony DeSimone (317) 226-5307.

EIS No. 040113, Final EIS, AFS, AL, Forest Health and Red-Cockaded Woodpecker (RCW) Initiative, Implementation, Talladega National Forest, Talladega and Shoal Creek Ranger Districts, Calhoun, Cherokee, Clay, Clebourne and Talladega Counties, AL, Wait Period Ends: April 19, 2004, Contact: Suzanne Alverson (256) 362-2909.

EIS No. 040114, Draft EIS, NPS, TX, Rio Grande Wild and Scenic River General Management Plan, Implementation, Big Bend National Park, Brewster and Terrell Counties, TX, Comment Period Ends: May 18, 2004, Contact: Matthew Safford (303) 969-2898.

EIS No. 040115, Final EIS, CGD, WA, Seattle Monorail Project (SMP), Green Line 14-Mile Monorail Transit System Construction and Operation, Reviewing a Water Crossing at the Lake Washington Ship Canal Bridge and Duwamish Waterway Bridge Modification, USCG Bridge, Endangered Species Act Section 7 and U.S. Army COE Section 404 Permits Issuance, City of Seattle, WA, Wait Period Ends: April 19, 2004, Contact: Austin Pratt (206) 220-7282. This document is available on the Internet at: http//dms.dot.gov.

EIS No. 040116, Final EIS, USA, LA, 2nd Armored Cavalry Regiment Transformation and Installation Mission Support, Joint Readiness Training Center (JRTC) Stryker Brigade Combat Team, Long-Term Military Training Use of Kisatchie National Forest Lands, Fort Polk, LA, Wait Period Ends: April 19, 2004, Contact: Stacy Basham-Wagner (337) 531-7458.

EIS No. 040117, Final EIS, FHW, CO, CO-9 (Frisco to Breckenridge) Highway Improvements Project to Improve a 14.5-kilometer (9-mile) stretch of CO-9 between the Towns of Frisco and Breckenridge to Decrease Travel Time, Improve Safety, Support Transportation needs of Local and Regional Travelers, Funding, Right-of-Way and U.S. Army COE Section 404 Permits, Summit County, CO, Wait Period Ends: April 19, 2004, Contact: Scott Sands (303) 969-6730.

EIS No. 040118, Final EIS, AFS, OR, Monument Fire Recovery Project and Proposed Nonsignificant Forest Plan Amendments, Implementing Four Alternatives for Recovery, Malheur National Forest, Prairie City Ranger District, Grant and Baker Counties, OR, Wait Period Ends: April 19, 2004, Contact: Ryan Falk (541) 820-3311.

This document is available on the Internet at: http://www.fs.fed/us/r6/malheur.

EIS No. 040119, Draft EIS, NOA, AK, Bering Sea and Aleutian Islands King and Tanner Crab Fisheries and Fishery Management Plan, Implementation, in the United States Exclusive Economic Zone off Alaska, Comment Period Ends: May 3, 2004, Contact: Gretchen Harrington (907) 586-7445. This document is available on the Internet at: http://www.fakr.noaa.gov/sustainable/crab/eis/default.htm.

EIS No. 040120, Draft EIS, AFS, ID, South Fork Wildfire Salvage Project, Harvesting Fire-Killed and Imminently Dead Trees, Cascade Ranger District, Boise National Forest, Valley County, ID, Comment Period Ends: May 3, 2004, Contact: Keith Dimmett (208) 382-7430.

EIS No. 040121, Final Supplement, NOA, HI, GU, AS, Pelagic Fisheries of the Western Pacific Region, Fishery Management Plan, Regulatory Amendment, Management Measures to Implement New Technologies for the Western Pacific Pelagic Longline Fisheries, Hawaii, American Samoa, Guam and Commonwealth of the Northern Mariana Island, Wait Period Ends: March 29, 2004, Contact: Alvin Katekaru (808) 973-2937. Under Section 1502.9(c)(4) of the CEQ Regulation for Implementing the Procedural Provisions of the National Environmental Policy Act the Council on Environmental Quality has Granted a 10-Day Waiver for the above EIS.

Amended Notices

EIS No. 040020, Draft Supplement, AFS, AK, Kensington Gold Project, Proposed Modifications of the 1998 Approved Plan Operation, NPDES, ESA and US COE Section 10 and 404 Permits, Tongass National Forest, City of Juneau, AK, Comment Period Ends: April 7, 2004, Contact: Steve Hohensee (907) 586-8800. Revision of FR Notice Published on 1/23/2004: CEQ Comment Period Ending 3/08/2004 has been Extended to 4/7/2004.

Dated: March 16, 2004.
Ken Mittelholtz,
Environmental Protection Specialist, Office of Federal Activities.

[FR Doc. 04-6218 Filed 3-18-04; 8:45 am]

BILLING CODE 6560-50-P